DEPARTMENT OF COMMERCE

International Trade Administration

[A-570-190, C-570-191]

Sol Gel Alumina-Based Ceramic Abrasive Grains From the People's Republic of China: Antidumping Duty Order and Countervailing Duty Order

AGENCY: Enforcement and Compliance, International Trade Administration, Department of Commerce.

SUMMARY: Based on affirmative final determinations by the U.S. Department of Commerce (Commerce) and the U.S. International Trade Commission (ITC), Commerce is issuing the antidumping duty (AD) and countervailing duty (CVD) orders on sol gel alumina-based ceramic abrasive grains (ceramic abrasive grains) from the People's Republic of China (China).

DATES: Applicable September 29, 2025.

FOR FURTHER INFORMATION CONTACT: Thomas Cloyd (AD China) or Suresh Maniam (CVD China), AD/CVD Operations, Office VII, Enforcement and Compliance, International Trade Administration, U.S. Department of Commerce, 1401 Constitution Avenue NW, Washington, DC 20230; telephone: (202) 482-1246 or (202) 482-1603, respectively.

SUPPLEMENTARY INFORMATION:

Background

In accordance with sections 705(d) and 735(d) of the Tariff Act of 1930, as amended (the Act), on August 15, 2025, Commerce published its affirmative final determination of sales at less than fair value (LTFV) of ceramic abrasive grains from China,¹ and its affirmative final determination that countervailable subsidies are being provided to producers and exporters of ceramic abrasive grains from China.²

¹ See Sol Gel Alumina-Based Ceramic Abrasive Grains from the People's Republic of China: Final Affirmative Determination of Sales at Less Than Fair Value, 90 FR 39366 (August 15, 2025) (Final LTFV Determination).

² See Sol Gel Alumina-Based Ceramic Abrasive Grains from the People's Republic of China: Final Affirmative Countervailing Duty Determination, 90 FR 39367 (August 15, 2025) (Final CVD Determination).

On September 19, 2025, pursuant to sections 705(d) and 735(d) of the Act, the ITC notified Commerce of its final affirmative determinations that an industry in the United States is materially injured by reason of dumping imports of ceramic abrasive grains from China, and subsidized imports of ceramic abrasive grains from China, within the meaning of sections 705(b)(1)(A)(i) and 735(b)(1)(A)(i) of the Act.³

³ See ITC's Letter, “Notification of ITC Final Determinations,” dated September 19, 2025 (ITC Notification Letter).

Scope of the Orders

The products covered by these orders are ceramic abrasive grains from China. For a complete description of the scope of the orders, see the Appendix to this notice.

AD Order

On September 19, 2025, in accordance with section 735(d) of the Act, the ITC notified Commerce of its final determination that an industry in the United States is materially injured within the meaning of section 735(b)(1)(A)(i) of the Act by reason of imports of ceramic abrasive grains from China that are sold in the United States at less than fair value.⁴ Therefore, in accordance with section 735(c)(2) and 736 of the Act, Commerce is issuing this AD order. Because the ITC determined that imports of ceramic abrasive grains from China are materially injuring a U.S. industry, unliquidated entries of such merchandise from China, entered or withdrawn from warehouse for consumption are subject to the assessment of antidumping duties.

⁴ Id.

Therefore, in accordance with section 736(a)(1) of the Act, Commerce will direct U.S. Customs and Border Protection (CBP) to assess, upon further instruction by Commerce, antidumping duties equal to the amount by which the normal value of the merchandise exceeds the export price (or constructed export price) of the merchandise on all relevant entries of ceramic abrasive grains from China. Antidumping duties will be assessed on unliquidated entries of ceramic abrasive grains entered, or withdrawn from warehouse, for consumption on or after June 2, 2025, the date of publication of the Preliminary LTFV Determination.⁵

⁵ See Sol Gel Alumina-Based Ceramic Abrasive Grains from the People's Republic of China: Preliminary Affirmative Determination of Sales at Less Than Fair Value, 90 FR 23319 (June 2, 2025) (Preliminary LTFV Determination).

Continuation of Suspension of Liquidation and Cash Deposits—AD

Commerce intends to instruct CBP to continue to suspend liquidation on all relevant entries of ceramic abrasive grains from China, in accordance with section 736 of the Act. These instructions suspending liquidations will remain in effect until further notice.

Commerce also intends to instruct CBP to require cash deposits equal to the estimated weighted-average dumping margin indicated in the table below, adjusted by the relevant subsidy offsets. Accordingly, effective on the date of publication in the Federal Register of the notice of the ITC's final affirmative injury determination, CBP must require, at the same time as importers would normally deposit estimated customs duties on subject merchandise, a cash deposit equal to the rates listed in the table below.

Estimated Weighted-Average Dumping Margins

The estimated weighted-average dumping margin is as follows:

⁶ This rate is based on facts available with adverse inferences.

Exporter/producer | Weighted- average dumping margin (percent)
China-wide Entity ⁶ | * ⁷ 88.32
* This rate is based on facts available with adverse inferences.

⁷ See Final LTFV Determination. Commerce notes that the Preliminary LTFV Determination and the Final LTFV Determination incorrectly applied an export subsidy offset of 16.10 percent ad valorem. The correct export subsidy offset is 0.00 percent ad valorem, pursuant to Commerce's Final CVD Determination.

CVD Order

As stated above, based on the above-referenced affirmative final determination by the ITC that an industry in the United States is materially injured within the meaning of section 705(b)(1)(A)(i) of the Act by reason of subsidized imports of ceramic abrasive grains from China,⁸ in accordance with section 705(c)(2) of the Act, Commerce is issuing this CVD order. Moreover, because the ITC determined that imports of ceramic abrasive grains from China are materially injuring a U.S. industry, unliquidated entries of subject merchandise from China, entered, or withdrawn from warehouse, for consumption, are subject to the assessment of countervailing duties.

⁸ See ITC Notification Letter.

Therefore, in accordance with section 706(a) of the Act, Commerce intends to direct CBP to assess, upon further instructions by Commerce, countervailing duties on all relevant entries of ceramic abrasive grains from China, which are entered, or withdrawn from warehouse, for consumption on or after May 22, 2025, the date of publication of the Preliminary CVD Determination,⁹ but will not include entries occurring after the expiration of the provisional measures period and before the publication of the ITC's final injury determination under section 705(b) of the Act, as further described in the “Provisional Measures—CVD” section of this notice.

⁹ See Sol Gel Alumina-Based Ceramic Abrasive Grains from the People's Republic of China: Preliminary Affirmative Countervailing Duty Determination, 90 FR 21893 (May 22, 2025) (Preliminary CVD Determination).

Suspension of Liquidation and Cash Deposits—CVD

In accordance with section 706 of the Act, Commerce intends to instruct CBP to reinstitute the suspension of liquidation of ceramic abrasive grains from China, effective on the date of publication of the ITC's final affirmative injury determination in the Federal Register, and to assess, upon further instruction by Commerce, pursuant to section 706(a)(1) of the Act, countervailing duties on each entry of subject merchandise in an amount based on the net countervailable subsidy rates below. On or after the date of publication of the ITC's final injury determination in the Federal Register, CBP must require, at the same time as importers would normally deposit estimated customs duties on this merchandise, a cash deposit equal to the rates listed in the table below. These instructions suspending liquidation will remain in effect until further notice. The all-others rate applies to all producers or exporters not specifically listed below, as appropriate.

Estimated Countervailing Duty Subsidy Rates

The estimated countervailing duty subsidy rates are as follows:

Company | Subsidy rate (percent ad valorem)
Qingdao SISA Abrasives Co., Ltd | * 165.05
Shandong Imerys Mount Tai Co., Ltd | * 165.05
Futong Industry Co., Ltd | * 165.05
Guangzhou Qianyang Metals & Machine | * 165.05
Kumthai Abrasives Co., Ltd | * 165.05
Luoyang Runbao Super Abrasives Co | * 165.05
More Superhard Products Co., Ltd | * 165.05
Qingdao Roy Grinding Material Co | * 165.05
Reckel Advanced Materials Co., Ltd | * 165.05
Zhengshou Haixu Abrasives Co | * 165.05
All Others | 165.05
* This rate is based on facts available with adverse inferences.

Provisional Measures—CVD

Section 703(d) of the Act states that the suspension of liquidation pursuant to an affirmative preliminary determination may not remain in effect for more than four months. Commerce published the Preliminary CVD Determination on May 22, 2025.¹⁰ As such, the four-month period beginning on the date of the publication of the Preliminary CVD Determination ended on September 18, 2025.

¹⁰ Id.

In accordance with section 703(d) of the Act, we will instruct CBP to terminate the suspension of liquidation and to liquidate, without regard to countervailing duties, unliquidated entries of ceramic abrasive grains from China entered, or withdrawn from warehouse, for consumption, on or after September 19, 2025, the date on which the provisional measures expired, until and through the day preceding the date of publication of the ITC's final injury determination in the Federal Register. Suspension of liquidation and the collection of cash deposits will resume on the date of publication of the ITC's affirmative final injury determination in the Federal Register.

Establishment of the Annual Inquiry Service Lists

On September 20, 2021, Commerce published the Final Rule in the Federal Register.¹¹ On September 27, 2021, Commerce also published the Procedural Guidance in the Federal Register.¹² The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.

¹¹ See Regulations to Improve Administration and Enforcement of Antidumping and Countervailing Duty Laws, 86 FR 52300 (September 20, 2021) (Final Rule).

¹² See Scope Ruling Application; Annual Inquiry Service List; and Informational Sessions, 86 FR 53205 (September 27, 2021) (Procedural Guidance).

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹³

¹³ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹⁴ the new annual inquiry service list will be in place until the following year, when the Opportunity Notice for the anniversary month of the order is published.

¹⁴ See Procedural Guidance, 86 FR at 53206.

Commerce may update an annual inquiry service list at any time as needed based on interested parties' amendments to their entries of appearance to remove or otherwise modify their list of members and representatives, or to update contact information. Any changes or announcements pertaining to these procedures will be posted to the ACCESS website.

Special Instructions for Petitioner and Foreign Governments

In the Final Rule, Commerce stated that, “after an initial request and placement on the annual inquiry service list, both petitioners and foreign governments will automatically be placed on the annual inquiry service list in the years that follow.” ¹⁵ Accordingly, as stated above, the petitioner and the Government of China should submit their initial entries of appearance after publication of this notice in order to appear in the first annual inquiry service lists for these orders. Pursuant to 19 CFR 351.225(n)(3), the petitioner and the Government of China will not need to resubmit their entries of appearance each year to continue to be included on the annual inquiry service list. However, the petitioner and the Government of China are responsible for making amendments to their entries of appearance during the annual update to the annual inquiry service list in accordance with the procedures described above.

¹⁵ See Final Rule, 86 FR at 52335.

Notification to Interested Parties

This notice constitutes the AD order with respect to ceramic abrasive grains from China and the CVD order with respect to ceramic abrasive grains from China, pursuant to sections 706(a) and 736(a) of the Act. Interested parties can find a list of AD and CVD orders currently in effect at https://enforcement.trade.gov/stats/iastats1.html.

These orders are published in accordance with sections 706(a) and 736(a) of the Act and 19 CFR 351.211(b).

Dated: September 24, 2025.
Christopher Abbott,
Deputy Assistant Secretary for Policy and Negotiations, performing the non-exclusive functions and duties of the Assistant Secretary for Enforcement and Compliance.

Appendix

Scope of the Orders

The merchandise covered by these orders is sol gel alumina-based ceramic abrasive grains which are comprised of minimum 94% aluminum oxide (Al2O3), and may contain other compounds, including, but not limited to, titanium dioxide, silicon dioxide, calcium oxide, sodium superoxide, ferric oxide, magnesium oxide, di-aluminum magnesium tetroxide, lanthanum oxide, lanthanum magnesium oxide, zirconium dioxide, or zirconium carbonate. Grain sizes of sol gel alumina-based ceramic abrasive grains range from 0.85 mm to 0.0395 mm (which corresponds to American National Standards Institute (ANSI) grit sizes from 20 to 280).

Shapes include but are not limited to angular, sharp, extra sharp, blocky, splintery, round stripped, triangular or shaped like extruded rods or stars.

Ceramic abrasive grains have unique crystalline structures that impart certain advanced properties, such as their extreme hardness and strength ranging between 16 and 22 gigapascals by the Vickers Diamond Indent Method, high melting point (2050 °C), and a single- or multi-phase microstructure, which may contain multiple phases, having crystalline sizes ranging from 0.05 to 30µm. These ceramic abrasive grains include but are not limited to blue, white, white-translucent, or off-white opaque colors.

Sol gel alumina-based ceramic abrasive grains are covered by the scope of these orders, whether or not incorporated into downstream articles, including but not limited to, abrasive papers, grinding wheels, grinding cylinders, and grinding discs. When incorporated into downstream articles, only the sol gel alumina-based ceramic abrasive grains component of such articles is covered by the product scope, and not the downstream product as a whole.

The merchandise subject to these orders is properly classified under subheadings 2818.10.2010 and 2818.10.2090 of the Harmonized Tariff Schedule of the United States (HTSUS). Other merchandise subject to the current scope, including when incorporated into the abovementioned downstream articles, may be classified under HTSUS subheadings 2818.10.1000, 2818.20.0000, 2818.30.0000, 3824.99.1100, 3824.99.1900, 6805.10.0000, 6805.20.0000, 6805.30.1000, 6805.30.5000, 6804.22.1000, 6804.22.4000, 6804.22.6000, 8204.12.0000, 8474.90.0010, 8474.90.0020, 8474.90.0050, and 8474.90.0090. Although the HTSUS statistical reporting numbers are provided for convenience and customs purposes, the written description of the merchandise is dispositive.

[FR Doc. 2025-18882 Filed 9-26-25; 8:45 am]

BILLING CODE 3510-DS-P